DEPARTMENT OF COMMERCE

International Trade Administration

[A-583-008]

Correction: Notice of Final Results of Antidumping Duty Administrative Review: Circular Welded Carbon Steel Pipes and Tubes From Taiwan

AGENCY: Import Administration, International Trade Administration, Department of Commerce.

EFFECTIVE DATE: September 30, 2004

FOR FURTHER INFORMATION CONTACT: Angela Strom at (202) 482-2704, AD/CVD Operations, Office 7, Import Administration, International Trade Administration, U.S. Department of Commerce, 14th Street and Constitution Avenue, NW, Washington, DC 20230.

SUPPLEMENTARY INFORMATION: On September 30, 2004, the Department of Commerce published the final results of the administrative review of the antidumping order covering circular welded carbon steel pipes and tubes from Taiwan. See Circular Welded Carbon Steel Pipes and Tubes From Taiwan: Final Results of Antidumping Duty Administrative Review, 69 FR 58390 (Final Results). The version published in the Federal Register contained a typographical error which is being identified and corrected by this Correction notice.

During the publication process, the title of one of the sections- “Assessment” -was transposed into the chart in the previous section that identified the respondent and the final weighted-average margin. The necessary correction is as follows:

Final Results of Review

We determine the following dumping margin exists for the period May 1, 2002, to April 30, 2003.

Producer and Exporter | Weighted-Average Margin (percentage)
Yieh Hsing | 1.61

Assessment

The Department shall determine .... (See Final Results at 58391 for the balance of this section).”

This notice is published in accordance with sections 751(a)(1) and 777(i)(1) of the Act.

Dated: December 28, 2004.
Barbara E. Tillman,
Acting Assistant Secretary for Import Administration.

[FR Doc. E4-3924 Filed 1-3-05; 8:45 am]

BILLING CODE 3510-DS-S